SMALL BUSINESS ADMINISTRATION

Privacy Act of 1974: New System of Records

AGENCY: U.S. Small Business Administration.

ACTION: Notice of new Privacy Act system of records.

SUMMARY: The Small Business Administration (SBA) proposes to add a new system of records titled, Veteran Programs Training and Counseling Records, to its inventory of records systems subject to the Privacy Act of 1974 (5 U.S.C. 552a), as amended. Publication of this notice complies with the Privacy Act and the Office of Management and Budget (OMB) Circular A-130 requirement for agencies to publish a notice in the Federal Register whenever the agency establishes a new system of records.

DATES: This action will be effective without further notice on December 11, 2015 unless comments are received that would result in a contrary determination.

ADDRESSES: Submit written comments to Linda Di Giandomenico, Acting Chief, Freedom of Information/Privacy Acts Office, U.S. Small Business Administration, 409 3rd Street SW., 8th Floor, Washington, DC 20416.

FOR FURTHER INFORMATION CONTACT: Linda Di Giandomenico, Acting Chief, Freedom of Information/Privacy Acts Office, (202) 401-8203.

SUPPLEMENTARY INFORMATION: A system of records is a group of any records under the control of a Federal agency from which information is retrieved by the name of an individual or by a number, symbol or other identifier assigned to the individual. The Privacy Act, 5 U.S.C. 552a, requires each Federal agency to publish in the Federal Register a system of records notice (SORN) identifying and describing each system of records the agency maintains, the purposes for which the agency uses the personally identifiable information (PII) in the system, the routine uses for which the agency discloses such information outside the agency, and how individuals can exercise their rights related to their PII information.

The SBA's Office of Veterans Business Development (OVBD) provides counseling and training services to veterans, transitioning service members and their dependents. These services include the Boots to Business program, an entrepreneurial education initiative offered as a two part program and the Veterans Business Outreach Center program designed to provide entrepreneurial development services nationwide. VBOCs and other resource partners, established through cooperative agreements, implement SBA's veterans programs and initiatives as authorized by section 32 of the Small Business Act (15 U.S.C. 657b). In order to measure program performance, implement standardized outreach efforts and register participants for training/counseling, information is collected through various methods. These methods include registration forms, participant/client surveys, interviews, resource partner surveys, and data obtained through data sharing agreements with other Federal agencies. Collected information is used to analyze the population of veterans who are seeking entrepreneurial training, identify trends among participants, facilitate communication between the Office of Veterans Business Development and training/counseling participants and to evaluate the performance of the OVBD programs.

SYSTEM NAME:

Veteran Programs Training and Counseling Records

SYSTEM LOCATION:

SBA headquarters (HQ) and all SBA field offices

CATEGORIES OF INDIVIDUALS COVERED BY THE SYSTEM INCLUDE:

Eligible service members, veterans and dependents who participate in the veteran training and counseling services provided by the Small Business Administration including services provided in conjunction with other agencies such as the Department of Defense.

CATEGORIES OF RECORDS IN THE SYSTEM:

There records in this system include:

1. Course data

2. Personal Data (i.e. Name, email address, phone number)

3. Military service data

4. Demographics

5. Previous business ownership experience data

6. Transition Assistance Program data

7. Course/counseling/training survey data

AUTHORITY FOR MAINTENANCE OF THE SYSTEM:

1. 15 U.S.C. 657b

2. 44 U.S.C. 3101

3. E.O. 9397

PURPOSE(S):

These records are used by program personnel for the following reasons:

a. To determine basic program eligibility and to register individuals for veteran counseling and training programs.

b. For program evaluation functions to determine the effectiveness of the program and to improve program operations.

c. To facilitate interaction and communication regarding the effectiveness of the SBA veteran and training programs between the Office of Veterans Business Development and veteran training and counseling participants.

d. To schedule and track participation in veteran counseling and training programs.

e. To maintain contact information of individuals who complete veteran training and counseling programs for continued follow-up services.

f. To disseminate program information to resource partner instructors.

g. To reduce duplication of collections of information through approved data sharing agreements with other agencies.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside SBA as a routine use pursuant to 5 U.S.C. 552a(b)(3) as follows:

1. For Congressional Inquiry—To provide information to a Congressional office from the record of an individual in response to an inquiry from that Congressional office made at the request of that individual.

2. For National Archives and Records Administration—To provide information to the National Archives and Records Administration for use in records management inspections.

3. For Non-Federal Personnel—To provide information to SBA volunteers, contractors, interns, grantees, experts and others who have been engaged by SBA to perform or assist in the performance of a service related to this system of records and who need access to the records in order to perform such service. Recipients of these records shall be required to comply with the requirements of the Privacy Act of 1974, as amended, 5 U.S.C. 552a.

4. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or the United States Government, where SBA determines that litigation is likely to affect SBA or any of its components.

5. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or the United States Government, where SBA determines that litigation is likely to affect SBA or any of its components.

6. To appropriate agencies, entities, and persons when: SBA suspects or has confirmed that the security or confidentiality of information in the system of records has been compromised; SBA has determined that as a result of the suspected or confirmed compromise there is a risk of harm to economic or property interests, identify theft or fraud, or harm to the security or integrity of this system or other systems or programs (whether maintained by the Agency or entity) that rely upon the compromised information; and the disclosure made to such agencies, entities and persons as reasonably necessary to assist in connection with SBA's efforts to respond to the suspected or confirmed compromise and prevent, minimize, or remedy such harm.

POLICIES AND PRACTICES FOR STORING, RETRIEVING, ACCESSING, RETAINING, AND DISPOSING OF RECORDS IN THE SYSTEM:

STORAGE:

Paper and electronic files.

Data initially stored outside the SBA network due to contract requirements will be stored on secure servers and transferred to SBA upon completion of the contract. Transfers will be conducted in accordance with established security agreements.

RETRIEVABILITY:

Data sharing files are retrieved by:

1. Service, race, level of education, gender; or

2. Pay grade, civilian address city, civilian address state code, civilian address zip code, Guard/Reserve status.

SBA files are retrieved by:

1. Name

2. Gender

3. Race

4. Ethnicity

5. Service

6. Pay grade

SAFEGUARDS:

Access and use is limited to persons with official need to know; computers are protected by password and user identification codes. Users are evaluated on a recurring basis to ensure need-to-know still exists.

RETENTION AND DISPOSAL:

Records are maintained in accordance with SBA SOP 00 41 2, schedules 65:02 through 65:06. Records maintained as part of the General Records Schedules (GRS) are disposed of accordingly.

SYSTEM MANAGER(S) AND ADDRESS:

Associate Administrators for SBA program offices carrying out Veteran Programs Training and Counseling, and Privacy Act Officer, 409 Third Street SW., Washington, DC 20416.

NOTIFICATION PROCEDURE:

Individuals may make record inquiries in person or in writing to the Systems Manager or SBA Privacy Act Officer.

ACCESS PROCEDURES:

Systems Manager or Privacy Act Officer will determine procedures.

CONTESTING PROCEDURES:

Notify officials listed above and state reason(s) for contesting any information and provide proposed amendment(s) sought.

RECORD SOURCE CATEGORIES:

Information contained within this system is obtained from:

1. Individuals covered by this system of records (e.g., transitioning service member, veterans, dependents)

2. SBA Resource Partners

3. DOD/DMDC

Linda Di Giandomenico
Acting Chief, Freedom of Information/Privacy Acts Office.

[FR Doc. 2015-27257 Filed 10-26-15; 8:45 am]

BILLING CODE 8025-01-P